DEPARTMENT OF AGRICULTURE

Animal and Plant Health Inspection Service

9 CFR Part 77

[Docket No. APHIS-2014-0058]

Bovine Tuberculosis Status of Michigan; Advance Counties From Modified Accredited Advanced to Accredited-Free

AGENCY: Animal and Plant Health Inspection Service, USDA.

ACTION: Interim rule and request for comments.

SUMMARY: We are amending the bovine tuberculosis regulations to advance the status of Antrim, Charlevoix, Cheboygan, Crawford, Emmet, Otsego, and Presque Isle Counties in Michigan from modified accredited advanced to accredited-free. We have determined that these counties meet the criteria for accredited-free status. This action relieves certain restrictions on the interstate movement of cattle and bison from these areas of Michigan.

DATES: This interim rule is effective on September 10, 2014. We will consider all comments that we receive on or before November 10, 2014.

ADDRESSES: You may submit comments by either of the following methods:

• Federal eRulemaking Portal: Go to http://www.regulations.gov/#!docketDetail;D=APHIS-2014-0058.

• Postal Mail/Commercial Delivery: Send your comment to Docket No. APHIS-2014-0058, Regulatory Analysis and Development, PPD, APHIS, Station 3A-03.8, 4700 River Road Unit 118, Riverdale, MD 20737-1238.

Supporting documents and any comments we receive on this docket may be viewed at http://www.regulations.gov/#!docketDetail;D=APHIS-2014-0058 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. C. William Hench, Senior Staff Veterinarian, Surveillance, Preparedness and Response Services, Cattle Health Center, VS, APHIS, 2150 Centre Avenue, Building B, MSC 3-E-20, Fort Collins, CO 80526-8117; (970) 494-7378.

SUPPLEMENTARY INFORMATION:

Background

Bovine tuberculosis is a contagious and infectious granulomatous disease caused by the bacterium Mycobacterium bovis. Although commonly defined as a chronic debilitating disease, bovine tuberculosis can occasionally assume an acute, rapidly progressive course. While any body tissue can be affected, lesions are most frequently observed in the lymph nodes, lungs, intestines, liver, spleen, pleura, and peritoneum. Although cattle are considered to be the true hosts of M. bovis, the disease has been reported in several other species of livestock, most notably bison and captive cervids. There have also been instances of infection in other domestic and nondomestic animals, as well as in humans. Through the National Cooperative State/Federal Bovine Tuberculosis Eradication Program, the Animal and Plant Health Inspection Service (APHIS) of the United States Department of Agriculture (USDA) works cooperatively with the Nation's livestock industry and State animal health agencies to eradicate bovine tuberculosis from domestic livestock in the United States and prevent its recurrence.

Federal regulations implementing this program are contained in 9 CFR part 77, “Tuberculosis” (referred to below as the regulations) and in the “Uniform Methods and Rules—Bovine Tuberculosis Eradication” (UMR) which is incorporated by reference within the regulations.

The status of a State or zone is based on its prevalence of tuberculosis in cattle and bison, the effectiveness of the State's tuberculosis eradication program, and the degree of the State's compliance with standards for cattle and bison contained in the UMR. The regulations provide that a State may request partitioning into specific geographic regions or zones with different status designations (commonly referred to as split-State status) if bovine tuberculosis is detected in a portion of a State and the State demonstrates that it meets certain criteria with regard to zone classification.

We have received from the State of Michigan a request to reclassify the modified accredited advanced zone in the State's Lower Peninsula as accredited free. Based on the findings of a review of the tuberculosis eradication program in Michigan, APHIS has determined that the zone meets the criteria for advancement of status contained in the regulations.

State animal health officials in Michigan have demonstrated that the State enforces and complies with the provisions of the UMR. The State of Michigan has demonstrated that the modified accredited advanced zone has zero percent prevalence of cattle and bison herds affected with tuberculosis and has had no findings of tuberculosis in any cattle or bison in the zone since the last affected herd in the zone was depopulated in April 2011. Therefore, Michigan has demonstrated that the zone within the State's Lower Peninsula previously classified as modified accredited advanced meets the criteria for accredited-free status as set forth in the definition of accredited-free State or zone in § 77.5 of the regulations.

Based on our evaluation of Michigan's request, we are classifying the zone consisting of Antrim, Charlevoix, Cheboygan, Crawford, Emmet, Otsego, and Presque Isle Counties as accredited free.

Immediate Action

Immediate action is warranted to relieve restrictions on the interstate movement of cattle and bison from Antrim, Charlevoix, Cheboygan, Crawford, Emmet, Otsego, and Presque Isle Counties in Michigan. Under these circumstances, the Administrator has determined that prior notice and opportunity for public comment are contrary to the public interest and there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This interim rule is subject to Executive Order 12866. However, for this action, the Office of Management and Budget has waived its review under Executive Order 12866.

In accordance with the Regulatory Flexibility Act, we have analyzed the potential economic effects of this action on small entities. The analysis is summarized below. The full analysis may be viewed on the Regulations.gov Web site (see ADDRESSES above for instructions for accessing Regulations.gov) or obtained from the person listed under FOR FURTHER INFORMATION CONTACT.

Michigan has submitted a request for split-State bovine tuberculosis status that will advance seven counties on the Lower Peninsula of Michigan (Antrim, Charlevoix, Cheboygan, Crawford, Emmet, Otsego, and Presque Isle) from modified accredited advanced to accredited-free status. This status advancement will eliminate pre-movement testing requirements for producers in the seven counties, saving them time and money. Based on national statistics and Small Business Administration size standards, most if not all of the cattle and dairy operations affected are likely to be small entities.

The number of herds in the 7 counties that require surveillance testing will be reduced from about 390 to fewer than 120. Tuberculosis testing, including veterinary fees, costs about $10 to $15 per head. Based on an estimated 33 head per herd, total annual cost savings are expected to range between $90,000 and $135,000 yearly in the 7 counties.

The average value of cattle and calves in Michigan is about $1,100 per head. Thus, the savings by forgoing tuberculosis testing represent about 1.3 percent of the average value of the animals. This action will not significantly change program operations and will have no significant effects on other Federal agencies, State government, or local governments.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule has no retroactive effect and does not require administrative proceedings before parties may file suit in court challenging this rule.

Paperwork Reduction Act

This interim rule contains no new information collection or recordkeeping requirements under the Paperwork Reduction Act of 1995 (44 U.S.C. 3501 et seq.).

List of Subjects in 9 CFR Part 77

Animal diseases, Bison, Cattle, Reporting and recordkeeping requirements, Transportation, Tuberculosis.

Accordingly, we are amending 9 CFR part 77 as follows:

PART 77—TUBERCULOSIS

1. The authority citation for part 77 continues to read as follows:

Authority: 7 U.S.C. 8301-8317; 7 CFR 2.22, 2.80, and 371.4.

§ 77.7 [Amended]

2. In § 77.7, paragraph (b)(1) is amended by removing the words “zones that comprise” and adding the words “zone that comprises” in their place and by removing the words “§ 77.9(b)(1) and”.

3. In § 77.9, paragraph (b) is revised to read as follows:

§ 77.9 Modified accredited advanced States or zones.

* * * * *

(b) The following are modified accredited advanced zones: None.

* * * * *

Done in Washington, DC, this 4th day of September 2014.
Kevin Shea,
Administrator, Animal and Plant Health Inspection Service.

[FR Doc. 2014-21583 Filed 9-9-14; 8:45 am]

BILLING CODE 3410-34-P